DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Government Employment Forms.

OMB Control Number: 0607-0452.

Form Number(s): E-1, E-2, E-3, E-4, E-5, E-6, E-7, E-9.

Type of Request: Extension of a currently approved collection.

Burden Hours: 13,985.

Number of Respondents: 16,964.

Average Hours per Response: 50 minutes.

Needs and Uses: This information collection request covers the questionnaires needed to conduct the public employment program for the 2010 and 2011 Annual Survey of Public Employment & Payroll.

The questionnaires for collecting the data are described below. There are eight survey forms used to collect data on government employment, pay, and hours. Since there are many different types and sizes of governments, each form is tailored to the unique characteristics of the type and size of government or government agency to be surveyed.

E-1 State agencies, excluding state colleges and universities

E-2 State colleges and universities

E-3 Dependent agencies of local governments

Single function special district governments

E-4 County governments, Municipal and township governments with populations of 1,000 or more

E-5 Municipalities and Townships (A shortened version of the E-4 form for Municipalities and Townships with a population of < 1,000)

E-6 Elementary and secondary school systems

Local government operated institutions of higher education

E-7 Multifunction dependent agencies and fire protection agencies

Multifunction special district governments

E-9 State police

County Sheriff departments

The type of employment and pay data collected by the public employment program in the 2010 and 2011 Annual Survey of Public Employment & Payroll are identical to data collected in recent annual surveys of government employment. By State, the 2010 and 2011 sample supports estimates of total local government employment and payrolls by type of government and government function.

Statistics compiled from data gathered using these forms are used in several important Federal government programs. Economists at the Bureau of Economic Analysis (BEA) use the statistics in two ways for developing the National Income and Product Accounts. First, the employment data are used in developing price deflators for the government sector components of the gross domestic product accounts. Second, the employment and payroll data are used in developing the government sector components for the national and sub-national personal income accounts and tables.

The regional BEA program uses the Census of Governments and the Annual Survey of Public Employment & Payroll to derive state-level estimates of the employment and wages and salaries of students and their spouses who are employed by public institutions of higher education in which the students are enrolled. There is no other national or state source for information on student workers at state institutions of higher education.

The employment data are used for two other data collection efforts currently conducted by the Census Bureau. The Medical Expenditures Panel Survey (MEPS) collects data for the Department of Health and Human Services (HHS) on health plans offered to state and local government employees. The MEPS sample of public employees is drawn from the Census of Governments—Employment file. The Criminal Justice Employment and Expenditure Survey (CJEE) uses employment data to provide employee and payroll statistics on police protection and correctional activities.

State and local government officials use these data to analyze and assess individual government labor force and wage levels. Both management and labor consult these data during wage and salary negotiations.

Public interest groups of many types produce analyses of public sector activities using these data. User organizations representing state and local government include the Council of State Governments, National Conference of State Legislatures, Government Research Association, U.S. Conference of Mayors, National Association of Counties, National League of Cities, and the International City/County Management Association. A third category of users, having a more specific focus on government activities, includes organizations such as the Citizens Research Council of Michigan and the National Sheriffs Association.

A variety of other organizations and individuals make use of these data. Notable research organizations include the Manhattan Institute for Policy Research, The Brookings Institution, and the Rockefeller Institute of Government. The instructors, researchers, and students in schools of public administration, political science, management, and industrial relations as well as other members of the public also use these data.

Affected Public: State, local or Tribal Government.

Frequency: Annually.

Respondent's Obligation: Voluntary.

Legal Authority: Title 13, Section 161, of the United States Code requires the Secretary of Commerce to conduct a census of governments every fifth year. Title 13, Section 182 of the United States Code allows the Secretary to conduct annual surveys in other years.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: February 2, 2010.
Glenna Mickelson,
Management Analyst, Office of the Chief Information Officer.

[FR Doc. 2010-2658 Filed 2-5-10; 8:45 am]

BILLING CODE 3510-07-P